DEPARTMENT OF THE INTERIOR

Bureau of Land Management

[NV-040-02-5101-ER-F330; (N-74943)]

Notice of Realty Action; Notice of Availability of Draft Amendment and Draft Environmental Impact Statement

AGENCY: Bureau of Land Management, Interior.

ACTION: Notice of realty action and notice of availability of the Draft Toquop Land Disposal Amendment to the Caliente Management Framework Plan (MFP) and Draft Environmental Impact Statement (DEIS) for the Toquop Energy Project.

SUMMARY: Pursuant to section 102(2)(C) of the National Environmental Policy Act (NEPA) of 1969, a DEIS has been prepared by the Bureau of Land Management (BLM), Ely Field Office for the Toquop Energy Project. This document evaluates the environmental effects from constructing a 1,100-megawatt (MW) natural gas-fired electric power generating plant and associated features on public lands in Lincoln and Clark Counties, southern Nevada. This document also evaluates the effects of amending the Caliente MFP, to identify 640 acres of land for disposal. This document evaluates the exchange of approximately 640 acres of private land (the Pah Rah parcel) in Washoe County, northwestern Nevada, for a similarly valued parcel of public land at one of the power plant sites under consideration. The Pah Rah parcel would come under BLM administration if the Pah Rah/Toquop land exchange is approved.

DATES: The DEIS will be made available to the public on May 31, 2002. Copies of the DEIS will be mailed to individuals, agencies, or companies who previously requested copies. Mailed comments on the DEIS must be postmarked by August 29, 2002. Written comments on the document should be addressed to Gene A. Kolkman, District Manager, Bureau of Land Management, Ely Field Office, HC 33, Box 33500, Ely, NV 89301-9408. Oral and/or written comments may also be presented at four scheduled public meetings to be held at the following locations.

—Monday, July 8, 2002, from 7 p.m. to 9 p.m.; City Hall, 100 Depot Avenue, Caliente, Nevada

—Tuesday, July 9, 2002, from 7 p.m. to 9 p.m.; City Hall, 10 E. Mesquite Boulevard, Mesquite, Nevada

—Wednesday, July 10, 2002, from 7 p.m. to 9 p.m.; BLM Las Vegas Field Office, 4701 Torrey Pines Drive, Las Vegas, Nevada

—Thursday, July 11, 2002, from 7 p.m. to 9 p.m.; Airport Plaza Hotel, 1981 Terminal Way, Reno, Nevada

ADDRESSES: Public reading copies of the DEIS will be available for reading at public libraries listed below:

—Caliente Branch Library, P.O. Box 306, Caliente, NV 89008

—Clark County Library, 1401 East Flamingo Road, Las Vegas, NV 89109

—Las Vegas Public Library, 1726 East Charleston Boulevard, Las Vegas, NV 89104

—Lincoln County Library, P.O. Box 330, Pioche, NV 89043

—Mesquite Library, 121 West 1st North Street, Mesquite, NV 89027

—North Las Vegas Library, 2300 Civic Center, North Las Vegas, NV 89030

—Panaca High School Library, P.O. Box 268, Panaca, NV 89042

—University of Nevada-Las Vegas, James R. Dickinson Library, Documents Department, 4505 South Maryland Parkway, Las Vegas, NV 89154

—University of Nevada-Reno, Getchell Library, Government Publication Dept., Reno, NV 89507

—Washoe County Library, 301 South Center Street, Reno, NV 89501

—White Pine County Library, 950 Campton Street, Ely, NV 89301

A limited number of copies of the document will be available at the following BLM offices:

—Bureau of Land Management, Caliente Field Station, U.S. Highway 93, Caliente, NV 89008-0237

—Bureau of Land Management, Carson City Field Office, 5665 Morgan Mill Road, Carson City, NV 89701

—Bureau of Land Management, Ely Field Office, 702 North Industrial Way, Ely, NV 89301-9408

—Nevada State Office, 1340 Financial Boulevard, Reno, NV 89502-7147

—Washington Office of Public Affairs, 18th and C Street, NW, Washington, DC 20240

Individual respondents may request confidentiality. If you wish to withhold your name or street address from public review or from disclosure under the Freedom of Information Act, you must state this definitively at the beginning of your written comments. Such requests will be honored to the extent allowed by law. All submissions from organizations, businesses, and from individuals identifying themselves as representatives or officials of organizations or businesses will be available for public inspection in their entirety.

FOR FURTHER INFORMATION CONTACT: Dan Netcher, Team Lead, Bureau of Land Management, Ely Field Office, HC 33, Box 33500, Ely, NV 89301-9408.

SUPPLEMENTARY INFORMATION: The DEIS addresses alternatives to resolve the following major issues: Air quality, surface water, ground water, threatened or endangered species, transportation, visual resources, noise, cultural and historical resources, Native American religious concerns, and socioeconomics.

The Proposed Action, two other action alternatives, and the No Action Alternative include the following: Proposed Action (MFP Amendment Land Exchange and/or Southern Power Plant Site right-of-way (ROW), Western Utility Alignment ROW, and access road ROW); Alternative 1 (MFP Amendment, Land Exchange and/or Southern Power Plant Site, Eastern Utility Alignment, and access road ROW); Alternative 2 (MFP Amendment, Land Exchange, and/or Northern Power Plant Site, Eastern Utility Alignment ROW, and access road ROW); No Action Alternative.

The Proposed Action and each action alternative include the following project actions and features: amending the Caliente MFP, exchanging BLM-managed public land for a privately owned parcel of land, and/or issuing ROWs by the BLM for Toquop Energy Project construction and operation; constructing, operating, and maintaining a 1,100-MW natural gas-fired electric power generating plant on one of two candidate plant sites with an expected life of 42 years; developing a wellfield in the Tule Desert to meet the water needs of the power plant; and developing the linear infrastructure necessary to connect the power plant to the new water source, to existing natural gas and electric transmission lines serving the region, and to access site facilities. The Proposed Action and Alternative 1 differ primarily in the location of the utility alignment (western vs. eastern). The Proposed Action and Alternative 2 differ primarily in the location of the power plant site (southern vs. northern) and, therefore, the parcel of BLM-managed public land to be exchanged. An option to the Proposed Action, Alternative 1, and Alternative 2 is for the BLM to issue ROWs for all project features rather than amend the Caliente MFP and approve the proposed land exchange.

The No Action Alternative represents the status quo condition of not approving or implementing the Proposed Action or either of the action alternatives. Analysis of the No Action Alternative is required by NEPA guidelines.

Based upon input received during public scoping, the BLM has combined the Toquop Energy Project DEIS with a related Environmental Assessment (EA) that the Carson City field office of the BLM had been preparing for the proposed Pah Rah/Toquop Land Exchange. That EA had been evaluating the exchange of approximately 640 acres of private land owned by the NLRC in the Pah Rah Range in Washoe County for a similarly valued, BLM-managed parcel of public land near the Toquop Wash in Lincoln County. The proposed land exchange is now being evaluated as part of the Proposed Action and Alternative 1 in this DEIS. The separate EA process for the proposed Pah Rah/Toquop land exchange has been discontinued. In addition, BLM elected to initiate amendment of the Caliente MFP.

A different land exchange would occur under Alternative 2. Under this alternative, the same privately owned parcel in Washoe County would be exchanged for a parcel of BLM-managed public land approximately 12 miles north-northwest of the Toquop Wash plant site. This alternative site would be adjacent to and contiguous with the proposed wellfield in the Tule Desert. That wellfield is necessary for the Proposed Action and both action alternatives. These proposed land exchanges are part of the Proposed Action and action alternatives being addressed in this Draft Caliente MFP Amendment/DEIS. To proceed with the land exchange, the public land to be disposed of must be identified in the Caliente MFP as being suitable for disposal through sale or exchange. It has been determined that additional analysis is needed in the Caliente MFP for the 640 acres of public land that have been identified for exchange under the Proposed Action or action alternatives. Therefore, this document contains a focused Plan Amendment that addresses the proposed land exchange. The Pah Rah section of land to be acquired already meets the criteria for land acquisition in the Lahonton RMP, which is contained within the Consolidated RMP developed and administered by the BLM's Carson City Field Office. Therefore, no amendments to those RMPs are needed. The project might optionally proceed by building the power plant on public land with the issuance of appropriate ROWs from the BLM.

Public participation is occurring throughout the processing of this project. A Notice of Intent was published in the Federal Register on November 7, 2001. Two rounds of public meetings were held. Comments presented throughout the process have been considered.

Dated: April 10, 2002.
Eric K. Luse,
Associate Field Manager.

[FR Doc. 02-13379 Filed 5-30-02; 8:45 am]

BILLING CODE 4310-HC-P